DEPARTMENT OF HEALTH AND HUMAN SERVICES

Centers for Disease Control and Prevention

National Center for Injury Prevention and Control (NCIPC), Board of Scientific Counselors, National Center for Injury Prevention and Control, (BSC, NCIPC)

In accordance with section 10(a)(2) of the Federal Advisory Committee Act (Pub. L. 92-463), the Centers for Disease Control and Prevention (CDC) announce the following meeting of the aforementioned committee.

Times and Dates: 1:00 p.m.-4:45 p.m. EDT, September 7, 2016 (OPEN); 8:30 a.m.-3:30 p.m. EDT, September 8, 2016 (OPEN).

Place: Centers for Disease Control and Prevention, Thomas R. Harkins Global Communication Center, Building 19, Auditorium B-3, 1600 Clifton Road NE., Atlanta, Georgia 30333. This meeting is also accessible by teleconference.

Dial-In Number: 1-877-937-9818, Participant Code: 7551384 Link to Adobe Connect: https://violenceprevention.adobeconnect.com/bcs2/.

Status: This meeting is open to the public limited only by the space and ports available. The meeting room accommodates 200 participants and there will be 100 ports available. There will be public comment periods at the end of each meeting day; September 7, 2016 from 4:05 p.m.-4:35 p.m. and September 8, 2016 from 1:45 p.m.-2:00 p.m.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable and non-communicable diseases and other preventable conditions and in promoting health and well-being; and (3) conduct and assist in research and control activities related to injury.

The Board of Scientific Counselors makes recommendations regarding policies, strategies, objectives, and priorities; and reviews progress toward injury prevention goals and provides evidence in injury prevention-related research and programs. The Board also provides advice on the appropriate balance of intramural and extramural research, the structure, progress and performance of intramural programs. The Board is designed to provide guidance on extramural scientific program matters, including the: (1) Review of extramural research concepts for funding opportunity announcements; (2) conduct of Secondary Peer Review of extramural research grants, cooperative agreements, and contracts applications received in response to the funding opportunity announcements as it relates to the Center's programmatic balance and mission; (3) submission of secondary review recommendations to the Center Director of applications to be considered for funding support; (4) review of research portfolios, and (5) review of program proposals.

Matters for Discussion: The Board of Scientific Counselors will discuss science matters to include research strategies needed to guide the Center's focus, as well as an update from the BSC, Pediatric Mild Traumatic Brain Injury (TBI) Work Group on its considerations for the Pediatric TBI Guideline project. The workgroup report on the protocol and systematic review of the acute identification, diagnosis, and management of children with mild Traumatic Brain Injury guideline will be posted to the BSC Web site prior to the meeting; http://www.cdc.gov/injury/bsc/index.html.

Agenda items are subject to change as priorities dictate.

Contact Person for More Information: Gwendolyn H. Cattledge, Ph.D., M.S.E.H., Deputy Associate Director for Science, NCIPC, CDC, 4770 Buford Highway, NE., Mailstop F-63, Atlanta, GA 30341, Telephone (770) 488-1430; Email: ncipcbsc@cdc.gov.

The Director, Management Analysis and Services Office, has been delegated the authority to sign Federal Register notices pertaining to announcements of meetings and other committee management activities, for both the Centers for Disease Control and Prevention and the Agency for Toxic Substances and Disease Registry.

Catherine Ramadei,
Acting Director, Management Analysis and Services Office, Centers for Disease Control and Prevention.

[FR Doc. 2016-17797 Filed 7-27-16; 8:45 am]

BILLING CODE 4163-18-P